FEDERAL RESERVE SYSTEM

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act.

Unless otherwise noted, comments regarding the notices must be received at the Reserve Bank indicated or the offices of the Board of Governors not later than June 30, 2015.

A. Federal Reserve Bank of Boston Federal Reserve Bank of Boston (Prabal Chakrabarti, Senior Vice President) 600 Atlantic Avenue, Boston, Massachusetts 02210-2204:

1. Androscoggin Bancorp, MHC and Androscoggin Bancorp, Inc., both in Lewiston, Maine; to establish Portland Trust Company, LLC, Portland, Maine, and transfer the existing trust business from Androscoggin Bancorp, MHC's subsidiary bank, Androscoggin Savings Bank, Lewiston, Maine to Portland Trust Company, LLC, and thereby engage in trust company functions or activities, pursuant to section 225.28(b)(5).

Board of Governors of the Federal Reserve System, June 10, 2015.
Michael J. Lewandowski,
Associate Secretary of the Board.

[FR Doc. 2015-14624 Filed 6-12-15; 8:45 am]

BILLING CODE 6210-01-P